DEPARTMENT OF THE INTERIOR

Bureau of Land Management

[ID-200-1610-DO-081D]

Notice of Intent To Prepare a Resource Management Plan for the Jarbidge Field Office, Idaho and Associated Environmental Impact Statement

AGENCY: Bureau of Land Management, Interior.

ACTION: Notice of intent.

SUMMARY: The Bureau of Land Management (BLM) Jarbidge Field Office, Twin Falls, Idaho intends to prepare a Resource Management Plan (RMP) with an associated Environmental Impact Statement (EIS) for the Jarbidge Field Office and by this notice is announcing public scoping meetings. The RMP will replace the existing 1987 Jarbidge RMP.

DATES: The BLM will announce public scoping meetings to identify relevant issues through local news media, newsletters, and the BLM Web site http://www.blm.gov/rmp/id/jarbidge at least 15 days prior to the first meeting. We will provide formal opportunities for public participation upon publication of the Draft RMP/EIS.

ADDRESSES: You may submit comments by any of the following methods:

• Web site: http://www.blm.gov/rmp/id/jarbidge (subject to change).

• E-mail: ID_Jarbidge_RMP@blm.gov.

• Fax: (208) 736-2375 or (208) 735-2076.

• Mail: Project Manager, Jarbidge Field Office, 2536 Kimberly Road, Twin Falls, Idaho 83301.

Documents pertinent to this proposal may be examined at the Jarbidge Field Office.

FOR FURTHER INFORMATION CONTACT: For further information and/or to have your name added to our mailing list, contact Rick Vandervoet, Acting Field Manager, Jarbidge Field Office, Telephone 208-735-2060; e-mail richard_vandervoet@blm.gov or Howard Hedrick, District Manager, Twin Falls District, Telephone 208-735-2060; e-mail howard_hedrick@blm.gov.

SUPPLEMENTARY INFORMATION: This document provides notice that the BLM Jarbidge Field Office, Twin Falls, Idaho, intends to prepare a RMP with an associated EIS for the Jarbidge Field Office and announces public scoping meetings.

The planning area is located in Twin Falls, Owyhee and Elmore Counties, Idaho and Elko County, Nevada. This planning activity encompasses approximately 1,366,000 acres of public land. The plan will fulfill the needs and obligations set forth by the National Environmental Policy Act (NEPA), the Federal Land Policy and Management Act (FLPMA), and BLM management policies. Preparation of an RMP for the Jarbidge Field Office is necessary to respond to a Stipulated Settlement Agreement under the jurisdiction of the District Court, for the District of Idaho; respond to changing resource conditions; respond to new issues; and prepare a comprehensive framework for managing public lands administered by the field office into the future. The BLM will work collaboratively with interested parties to identify the management decisions that are best suited to local, regional, and national needs and concerns.

The purpose of the public scoping process is to determine relevant issues that will influence the scope of the environmental analysis and EIS alternatives. These issues will also guide the planning process. You may submit comments on issues and planning criteria in writing to the BLM at any public scoping meeting, or you may submit them to the BLM using one of the methods listed in the ADDRESSES section above. Individual respondents may request confidentiality. If you wish to withhold your name and/or address from public review or disclosure under the Freedom of Information Act, you must state this prominently at the beginning of your written comment. The BLM will honor such requests to the extent allowed by law. All submissions from organizations or businesses, and from individuals identifying themselves as representatives or officials of organizations or businesses, are available for public inspection in their entirety.

To be most helpful, scoping comments should be received within 60 days following the publication of this notice in the Federal Register; however, coordination with the public will continue throughout the planning process.

Preliminary issues and management concerns have been identified by BLM personnel, other agencies, and in meetings with individuals and user groups. They represent the BLM's knowledge to date regarding the existing issues and concerns with current land management. The major issues that will be addressed in this planning effort include: Tribal treaty rights and trust responsibilities; availability and management of public lands for commercial uses (e.g., livestock grazing, minerals development); vegetation management (including invasive species, noxious weeds, riparian areas and wetlands); fire and fuels management; management of habitat for wildlife and special status species; management of transportation, public access, and recreational opportunities; land tenure adjustments, rights of way including wind energy and utility corridors; wild horses; and management of areas with special values.

After gathering public comments as to what issues the plan should address, they will be placed in one of three categories:

1. Issues to be resolved in the plan;

2. Issues to be resolved through policy or administrative action; or

3. Issues beyond the scope of this plan.

The BLM will provide an explanation in the plan for placing an issue in either category two or three. In addition to these major issues, the plan will address a number of management questions and concerns. BLM encourages the public to help identify these questions and concerns during the scoping phase.

Preliminary planning criteria include the following:

1. The plan will comply with all applicable laws, regulations, and current policies. This includes local, state, Tribal, and Federal air quality standards; as well as water quality standards from the Idaho Non-Point Source Management Program Plans.

2. The RMP planning effort will be collaborative in nature. The BLM will strive to ensure that its management decisions are complementary to other planning jurisdictions and adjoining properties, within the limits described by law and Federal Regulations.

3. The BLM will continue to manage all previously established Wilderness Study Areas for wilderness values and character until Congress either designates them as wilderness areas or releases them for other types of multiple use management.

4. The RMP will recognize all valid existing rights.

5. As part of this RMP process, BLM will analyze areas for potential designation as Areas of Critical Environmental Concern (ACEC) in accordance with 43 CFR 1610.7-2, and river corridors for designation under the Wild and Scenic Rivers Act.

The BLM will use an interdisciplinary approach to develop the plan in order to consider the variety of resource issues and concerns identified. Specialists with expertise in the following disciplines will be involved in the planning process: Rangeland management, botany, noxious weeds, minerals and geology, fire use, outdoor recreation and wilderness, archaeology, paleontology, wildlife and fisheries, lands and realty, hydrology, soils, sociology and economics, public affairs, and geographic information.

Dated: November 23, 2005.
K Lynn Bennett,
Idaho State Director, Bureau of Land Management.

[FR Doc. E6-85 Filed 1-9-06; 8:45 am]

BILLING CODE 4310-GG-P \